ENVIRONMENTAL PROTECTION AGENCY

[FRL-9110-5]

Good Neighbor Environmental Board; Notification of Public Advisory Committee Teleconference

AGENCY: Environmental Protection Agency (EPA).

ACTION: Notification of Public Advisory Committee Teleconference.

SUMMARY: Pursuant to the Federal Advisory Committee Act, Public Law 92-463, notice is hereby given that the Good Neighbor Environmental Board (GNEB) will hold a public teleconference on February 25, 2010 from 1 p.m. to 3 p.m. Eastern Standard Time. The meeting is open to the public. For further information regarding the teleconference and background materials, please contact Dolores Wesson at the number listed below.

Background: GNEB is a Federal advisory committee chartered under the Federal Advisory Committee Act, PL 92463. GNEB provides advice and recommendations to the President and Congress on environmental and infrastructure issues along the U.S. border with Mexico.

Purpose of Meeting: The purpose of this teleconference is to continue discussion on the Good Neighbor Environmental Board's Thirteenth Report.

SUPPLEMENTARY INFORMATION: If you wish to make oral comments or submit written comments to the Board, please contact Dolores Wesson at least five days prior to the meeting.

General Information: Additional information concerning the GNEB can be found on its Web site at http://www.epa.gov/ocem/gneb.

Meeting Access: For information on access or services for individuals with disabilities, please contact Dolores Wesson at (202) 564-1351 or e-mail at wesson.dolores@epa.gov. To request accommodation of a disability, please contact Dolores Wesson at least 10 days prior to the meeting to give EPA as much time as possible to process your request.

Dated: January 29, 2010.
Dolores Wesson,
Designated Federal Officer.

[FR Doc. 2010-2384 Filed 2-3-10; 8:45 am]

BILLING CODE 6560-50-P